DEPARTMENT OF THE TREASURY

Customs Service

[T.D. 01-76]

Revocation of Customs Broker Licenses

AGENCY: U.S. Customs Service, Department of the Treasury.

ACTION: Customs broker license revocations.

SUMMARY: Pursuant to section 641 of the Tariff Act of 1930 as amended (19 USC 1641) and the Customs Regulations (19 CFR 111), the following Customs broker licenses are revoked. Please be aware that some of these entities may continue to provide broker services under another valid brokerage license. Because previous publication of some records cannot be readily verified, the records are now being published to ensure Customs compliance with administrative requirements.

Name | License
Port unknown:
Ryler, William Scott | 13895
Anchorage:
Keith, Scott Henry | 14618
Shaw, Donald H | 05059
VanPatten, Joanne C | 07455
Atlanta:
Farah, Rose Marie | 16859
McCallum, Christie Ann | 14464
Mitchely, Diane B | 12356
Olejnik-Anthis, Tara Marie | 15078
Rabern, Kimberly L | 15079
Baltimore:
Bennett, Perijo P | 14146
Bollhorst, Donald K | 04256
Braverman, Julius | 04157
Caplan, Ronald | 04105
Fillmore, Joan Ruth | 09747
Hendrix, Marshall Stan | 06694
Horwitz, Morris E | 03434
Keeney, Stephen Brooks | 04904
Kraus, Duncan Lee | 03587
Kuhl, Donald James | 04111
Mahon, Patrick J | 07210
McDonagh, Meredith A | 13730
Neff, Monica | 12527
Price, Mary Jane | 10297
Schevitz, Howard J | 04159
Seaschott, Inc | 09613
Stern, H. George | 03123
Boston:
Alexander, Timothy D | 06886
Blanz, Madeleine R | 14117
Brandyberry, Paul R | 07110
Brome, Betsey P | 09193
Cercone, Donald Robert | 03808
Conover, Janet | 10518
Curtis, Lawrence | 07359
Dahn, Paul D | 14838
Dion, Donna M | 15256
Eldridge, Donald N | 02993
Flott, Jonathan | 17149
Goodhue, Edmund | 03353
Goodsill, Jeffrey Allen | 16584
GSI Logistics Services, Inc | 14693
Marino, Donna M | 09896
McNamara, Kellie A | 13410
Murphy, Gerard X | 04909
Osburn, Robert A | 09212
Patten, Richard Dain | 03739
Ross, John L | 04026
Spence, Lisa Ann | 13304
Buffalo:
Anderson, Kurt M | 13927
Camilli, Anthony | 04722
Gambino, Sr., Jerry J | 02626
Gonzalez, Robert W | 07105
Goris, Frederick J | 04380
Jurnack, James | 06654
Limebeer, Hal A | 10305
Rausch, John H | 10584
Schnell, Bruce M | 09155
Vitello, Sharyle Ellen | 12145
Ward, Theresa A | 09047
Zimmermen, Michael D | 15049
Champlain:
Bashaw, Kim Anthony | 09217
Sullivan, Gregory John | 15419
Charleston:
American National Brokerage | 14841
Brown, Cindy C | 11215
Chope, Joseph W | 11992
Donohue, Kelly D | 14312
Fisher, Richard John | 16263
Jones, Danny Joe | 04728
Marchant, Margaret Dana | 15396
Riley, Theresa Lapolia | 10433
Shaw, Kimberly Anne | 14091
Smith, Nancy J | 07136
Stone, Carol | 10566
Walker, Kristy J | 10387
Charlotte:
ASI Logistics, Inc | 16606
Landen, Rosalie D | 10168
Long Int'l Logistics Svcs., Inc | 15765
McConnell, Jeff A | 12752
MJ Shea & Company, Inc | 14037
Chicago:
Ace Pool Car, Inc | 11753
Air Express International | 03020
Allen, Danielle | 13439
Allfreight Import Service, Inc | 13131
American Exhibition Services, Inc | 07812
Anderson, Debra Lynn | 10621
Bell, Randall W | 16047
Benedict, Bruce Ernest | 09966
Bradley, Gary | 10830
Brian, Nancy Ann | 07631
Brian, Ralph E | 05499
Calkins, Kevin M | 12210
Callaway, Albert J | 13225
Cobb, Karen L | 10799
Dart Express (Chicago), Inc | 14249
Dorf International, Inc | 01732
Drawback Refunds Company, Inc | 06417
Geist, Daniel M | 09031
Griffiths, William | 04800
Guy B Barham Company | 01442
Jerominski-Spoonholtz, Margaret M | 09008
Knight, Glen A | 13085
Lachman, Michelle | 13094
Leber, Steven D | 15384
LEP International, Inc | 02641
McGinty, William Allen | 03180
Meyer, Lucille A | 05967
Mocniak, Suzanne M | 16514
Mueller, Gene L | 04903
Neary, Jeffery A | 13035
O'Connor, Velina Jeannette | 14570
Osowski, Eugene F | 03333
Peterson, Janice M | 17159
Petr, Carole G | 04809
Shatney, Kristin A | 15007
Shepherd, Charles M | 17171
Slinker, Jeanne M | 13032
Thompson, Jeffrey S | 16016
Walsh, Kevin M | 05177
Cleveland:
Adair, Jeffrey | 14558
Bain, Albert E | 09301
Ball, Lonnie | 14717
Ball, Nancy | 16459
Cozart, Johann | 06006
Damyanoff, Damyan | 07860
Daniel, Kathryn M | 14890
Delozier, Marie L | 10574
Gill, Linda J | 15909
Goss, Tisha | 16852
Greenwell, Stephen D | 14484
Groh, Peter A | 09797
International Cargo Services, Inc | 16382
Kindle, David E | 15183
Klingensmith, Laura M | 13877
Longley, Keith N | 11888
Matitia, Issac | 11189
Murray, Robert J | 14219
Newman, Robert W | 07554
Noss, Jr., Donald | 15229
Okon, Eugene | 04939
Phillips, Franklin J | 02598
Quast & Company, Inc | 05564
Quinn, Heidi M | 10576
Ritter, Jennifer L | 15277
Robinson, Faith D | 14420
Schmitz, Eloise | 13603
Seybeth, Mary Ann | 06559
Seybold, Suzane M | 12712
Shaw, Robert M | 10207
Starr, David B | 10208
Vendetti, Marilou | 12508
Vinson, James P | 16383
White, Troy S | 14770
Wolff, Thomas M | 14422
Dallas/Fort Worth:
Atlas Cargo Express, Inc | 15530
Christy-Mohabeer, Linda M | 15238
Douglass, Margo Lee | 15399
Globe Express Services | 10640
James, Martha J | 15237
Luyanda, Jose H | 15481
Marrone, Scott Michael | 14190
Roberts, Steven Scott | 15434
Self, Larry V | 06790
Williams, Elizabeth B | 16724
Detroit:
Adams, Orosia C | 14262
Advance International Freight | 14130
Armbruster, Gerald L | 03742
Coughlin, Jr., Francis X | 03712
Folino-Nazda, Robbie | 12561
Gill, Brian T | 16680
Hakala, Patricia A | 11028
Holley, Scott R | 15696
Kimball, Barbara | 04857
McAfee, Erstin C | 03782
McBride, James | 15835
Silber, Laura | 15677
VG Nahrgang Company | 03410
El Paso:
Camino Real Customs Brokers | 14120
Harlan, Harry Edwin | 16525
Hudson, John M | 06661
Rocky Mountain | 14193
Great Falls:
Anderson, Donald Douglas | 11880
Garbaccio, Christopher James | 14718
Rodman, Scott W | 16393
Steiner, Darlene Sue | 14231
Summers, Sherry Lynn | 10897
Honolulu:
Corrigan, J. Patrick | 10588
Dabalos, Norman | 04746
Kido, Sako S | 03523
Lam, Stephen T | 05708
Matsuno, Kent | 04205
Mitchell, James | 03524
Nakamura, Sharon | 09482
Skelton, Leslie P | 03685
Teibel, Willard W | 04144
Houston:
All Port Services, Inc | 15116
Anderson, Matthew | 16037
Andrews, Mary | 15116
Bazzurro, Betty D | 14188
Blumar Custom House Brokers, Inc | 17021
Butler, Carol | 00999
Darrell J Sekin Company, Inc | 05249
Friedman, Bruce J | 16472
Greer, Jeffrey W | 15737
Macy, Jullian | 10982
Maier, Cleburne B | 05718
McCullough, Patricia Lane | 09687
McGilberry, Scott A | 16196
Nichols, Brenda C | 11899
Ram Forwarding, Inc | 11172
Small, David L | 14211
Smyth, Jr., Lonnie | 16775
Snell, Susan | 16239
Steil, Karen D | 10972
Whiddon, Edward Scott | 14719
Laredo:
Casso International, Inc | 11479
Cisneros, Jr., Luis | 04359
Corrigan, EH | 02503
Falk Randolph E | 13416
Freeman, Philip Wayne | 12257
Fugitt, William R | 07507
Jones, Jr., Guy W | 05724
Pina, Sr., Librado | 02979
Salinas US Customs, Inc | 14531
Los Angeles:
Abou-Fadel, Nasrallah Nicholas Fadlo | 16338
Acme International, Inc | 07063
Albert, Peter | 11162
Allen, Ronald Lee | 11774
Aras International, Inc | 13847
Beseda, Jane | 09500
Bui, Quan Dang | 13333
Chen, Johnny Yen | 07092
Chu, Vincent Kin Wing | 14796
Donatelli, Paul Andrew | 04396
Doub, III, George Moffett | 16231
Elliot, Douglas Matthew | 16214
Fabian, Louis Patrick | 03860
Hadfield, Pamela | 11708
Ho, Sai-yim Happy | 10489
Keener, Constance G | 07313
Kelm, Marcia Joan | 10629
Kenehan, John William | 05809
Le, Kathryn Tram | 16080
LeMoine, Allison Michelle | 14481
Lindblom, Lenore M | 06438
Moopen, Thomas | 09856
Murray, Janet Kathryn | 12253
Orr, Samuel E | 02673
Pacific Freight Group, Inc | 11127
Power Transportation, Inc | 14709
Preston, Elizabeth A | 15858
Priority Cargo Services (USA), Inc | 16416
Rojas, Jaime A | 07821
Rosoff, Lauri Ellen | 14081
Stewart, Gary C | 06649
Stewart-Robbins, Lori L | 13188
Westland, John Lawrence | 02611
Wiggs, Vicki Annette | 06616
Yen, Jerry Jeong | 14088
Yeung, Allison | 14634
Miami:
Bell, James R | 12011
Carl Matusek, Inc | 03709
Dominguez, John A | 04461
Herbison, Sharon Ann | 04624
Howell, Mark H | 11916
Jameson, Jr., Jere R | 09859
Veitia, Jorge | 04630
Milwaukee:
Monfils, Owen F | 03794
Pollock, Elizabeth Ann | 14323
Salentine, Dave A | 03619
Testroet, Vincent Leo | 03620
Minneapolis:
Fellows, Jeffrey Taber | 10538
Hut Retail Services, Inc | 17117
Martin, Kelly Ann | 15373
Miell, Debra Louise | 14831
Reynolds, Richard Carver | 14690
Tradelink, Inc | 11131
Mobile:
Allen, Howard | 05433
Stuckey, Joseph | 05558
New Orleans:
Adams, Hugh B | 11962
Barnes, Carol M | 05600
Baxter Company CHB, Inc | 03022
Blancq, Jr., Claude E | 05075
CF Export Import Services | 07870
Dorf International, Inc | 01893
Dorf International, Ltd | 02666
Evans, Arthur | 06292
Everidge, Eddie | 06252
Gerardi, Cheryl | 09802
Gilbert, John P | 16520
Guenther, John | 02901
Gulf States Forwarding, Inc | 09385
Keer, Maurer, Inc | 09397
Kennedy, Jr., Frank B | 03485
Lavis, Charles | 14646
Lawrence M Parry, Jr., Inc | 07309
Mann, Peter Drake | 12567
Memphis Compress & Storage Co., Inc | 07129
Montalbano, Raymond | 04488
Moss, Robert | 16577
Movers Port Services, Inc | 09159
Petrey, Jr., Charles Louis | 13939
Phillips, Karen | 07552
Seuzeneau, Betty | 03994
Thornton, Kathleen | 06779
Wills, Alfred B | 03875
New York:
AFC International Forwarders, Inc | 09989
Altman, Robert | 02965
Apollo International Forwarders, Inc | 12067
Appello, Rocco | 02539
Baird, Jr., Kenneth J | 07099
Baldassano, Vincent J | 07276
Baratta, Kenneth | 09146
Berger, Jerome H | 03196
Berns, Louis | 01569
Black & Geddes, Inc | 04014
Bluman, Jeanette S | 15540
Browne, Leslie K | 00686
Browne, Walter Francis | 02788
Burckard, Alvin M | 01003
C & T Customs Brokers, Inc | 09295
Caldwell, Lorraine | 16284
Cargomate Customs Clearance Service | 02981
Carpp, Stanley | 02257
Chan, Alex S | 10349
Christophides, Demetrius G | 02494
Cohen, Isidore | 01668
Combined Logistics (USA), Inc | 04585
Control Cargo Service Ltd | 06987
Cosmos Shipping Co, Inc | 02971
Csak, Ernest M | 14261
David K Lindemuth Company, Inc | 07220
DeMalio, Louis V | 03540
Denezzo, FD | 02404
Dichter, Harold | 02287
Dierks, Jurgen H | 04697
Doherty, Jr., George F | 01617
Dunbar, William F | 01852
Eastern Cargo Forwarders, Inc | 03666
Eden, Edward | 00915
Edgar, Henry B | 01966
Edward J Six, Inc | 16547
Ellis, Charles R | 03740
Emig, William H | 00254A
Engelbrecht, Joseph A | 05549
Englert, Edwin | 00769
Englert, Raymond A | 01609
Excel Shipping Corp | 02284
Fabius & Company Customs Brokers, Inc | 02323
Farrell, Joseph F | 06067
FE Wallace & Company, Inc | 01346
Federman, Jonathan | 12615
Fichtmann, Louis B | 02900
Fijux, George F | 01328
Fine, Harold | 10720
Fleitman, Arnold A | 01027
Florescu, Florea | 09786
Foreign Shipping Svc. Company, Inc | 03644
Forwand, Sam | 02015
Freeslate International Corporation | 03254
Freyermuth, Lewis Paul | 12318
Gall, Alexander | 01332
Garber, Daniel Joseph | 15977
Gauss, Charles P | 05453
Geils, Christian L | 00006A
Gill, John H | 02305
Glennon, John L | 00269A
Gloss, Theodore R | 01647
Greer, Leslie N | 13004
Grimes, Jr., Edward T | 01257
Haeger, Jr., Albert C | 02720
Haig, Douglas M | 01505
Harte, Thomas | 06472
Hartenstine, Richard J | 05409
Heiner, Harold W | 02756
Hermann, Victor J | 00838
Hodgkinson, Frederick R | 02001
Hollman, John M | 01528
HZ Bernstein Airfreight Corp | 04281
Intercontinental-Wisk, Inc | 04251
Inter-Maritime Container Lines, Inc | 02600
Intermodal Freight Forwarding, Inc | 04176
Intra-Mar Transport Corp | 01929
James E Fox & Company, Inc | 01348
Jensen, Albert C | 03522
Kampuries, Carol | 05638
Kaufman & Vinson Company | 03901
Kayser, Marilyn | 10843
Kazangian, Albert | 05987
Keer, Maurer, Inc | 06820
Kersten Shipping Agency, Inc | 02564
Klebanoff, Gary E | 09289
Kleinstein, Ruth | 10609
Koerner, Arthur G | 02893
Kraemer, Albert EC | 00030
Kramer, Samuel | 01154
Lansen, John P | 01083
Lee-Herrmann Company | 02140
Lefelstein, Susan | 04011
Leff, Robert A | 03035
Lehman, Gail Ann | 07559
Levine, Michael | 05543
M Farris & Company, Inc | 01630
Magno, Laraine | 08031
Mann, Martin G | 03744
Manuh, Elvis Stephen | 12049
Mariano, Angel A | 03397
Martin, Arthur J | 00856
Masse, James | 03472
Maxwell, Michael P | 11959
Mayer, Gustave Howard | 02949
McConnell, Edward Hugh | 01891
McCormack, Paul | 05932
McKeown, Kevin J | 12319
Meanen, John J | 03150
Meneses, Ben O | 16082
Meyer, William F | 03322
Milkoff, Ben | 02112
Mintz, Sol | 02918
Molina, Edward H | 03652
Mottola, Thomas A | 01765
Muray, Walter W | 02932
Narr, William J | 02022
Nietsch, Cynthia | 05783
Novo Int'l Airfreight Corporation | 05212
Novo International Corporation | 05014
O'Donnell, James T | 03986
O'Grady, James | 09057
P John Hanrahan, Inc | 02212
Palle, William R | 07341
Pedron, Florenda B | 14105
Peter A Bernacki, Inc | 03167
Peterman, Steven T | 06640
Pfeiffer, Harry L | 02262
Prchal, Charles | 01940
Priemer, August C | 01353
Pullis, Charles J | 01995
Ramono, Silvio W | 02070
REA Express, Inc | 01691
Remer, Edward | 01701
Rice, John P | 02508
Roberts, Paul | 06436
Rokamer Customs Expediter Co., Inc | 05546
Romano, Kenneth Douglas | 04564
Rosenberg, Edward | 02869
Royals, Jr., Copeland | 01651
Rubino, Joseph A | 01564
Russell, Quentin R | 03309
Sam Schwartz CHB, Inc | 07425
Schiller, Mortimer | 02988
Schipani, Francis D | 03955
Schleifstein, Ely | 02516
Schmitz, Gerhardt | 05746
Schneider, Frank S | 00662
Sellers Transportation Company, Inc | 01644
Seuzeneau, Betty | 02236
Shannon, Newell C | 10276
Sheridan, Edward J | 01666
Silvey Shipping Company, Inc | 02896
Somma, Peter J | 10976
Spano, Alfred B | 04959
Specific Int'l Freight Forwarders, Inc | 12070
Springer, Gustave | 02464
Stateside Customs Brokerage, Inc | 06692
Switsky, Steve | 11420
Tarus, Charles J | 02204
Trainor, Joseph | 10230
Transnational Shipping Corporation | 06959
United Shipping, Inc | 11934
US Brokers, Inc | 07293
VanBuskirk, John W | 05138
VanWagoner, John R | 05797
Wallrabe, Christopher Sean | 11858
Warren, Toni | 10037
Wedeman & Godnecht, Inc | 00202A
Weiss, Murray H | 02962
Westerlund, Paul J | 06050
Westrack, Robert M | 07789
William G Young & Company, Inc | 01258
WITS, Inc | 04876
Wooster, Ray S | 00792
World-Wide Services, Inc | 02966
Zawacki, Ronald | 07565
Zwicker, Abraham E | 00874
Nogales:
Torre, Shawn B | 11210
Norfolk:
Deloatch, Jane M | 13883
Lewis, Jude | 12084
Otay Mesa:
Wright, Claire | 13371
Pembina:
Eszlinger, Lyle | 13361
Philadelphia:
Baird, Kenneth J | 07550
D'Amico, Lenore Anne | 15093
Gaudio, Alan | 10039
Gehry, Bruce R | 07429
Lucas, Sheila D | 07676
Patrick, Nolan John | 07258
Pennell, Jr., William G | 06445
Sun, Charlene Chen | 14867
Wallace, Barbara Ann | 05190
Walsmann, Monika | 16213
Yost, John Andrew | 13352
Portland, ME:
Lawrence, Barbara E | 04027
Moe, Keith V | 15244
Whitworth, Stephen | 16304
Williamson, Katheryn A | 12275
Portland, OR:
Brosterhous, Coleman & Company | 07286
Consolidated Freightways Export-Import, Inc | 07992
Drew, Bruce Alan | 13657
Gadeke, Jill Lynn | 14495
Graham, Andrew Carter | 14100
James J Boyle & Company | 05438
Lindsey Forwarders, Inc | 14223
Livingston International | 00034
Newman, Steven W | 03342
Newman Wilson Company | 06061
Seaport Shipping Company | 04767
Sluys, Ralph V | 09394
Summit Trade Specialist (US) | 14544
Wallen, Robert Glenn | 08019
WITS, Inc | 04827
Providence:
Campagna, Anthony F | 04679
Gomez, Roger | 03807
Jackvony, Vincent M | 04403
San Diego:
Anderson, Albert Moulton | 17067
Chaparral Freight Forwarders and CHB, Inc | 16740
Compian, Claudia M | 14983
Free Trade, Inc | 13941
Jensen, David Ray | 15147
Pettengill, Linda K | 17122
San Francisco:
Alexander, Timothy D | 05663
Ardan, Lori Ann | 06874
Arellanes, Gloria Jeanette | 12197
August, III, Joseph J | 05226
Barry McCarthy Shipping Company, Inc | 07374
Belonogoff, Sharon R | 11002
Binnie, Anne Elizabeth | 13541
Bohling, Sally Kay | 05269
Bonetti, Mark R | 07463
Brandt, Charles P | 03505
Brownfield, Marshall Ray | 04899
Bruce Duncan Company, Inc | 03720
Bull, DeVota Wilson | 02976
Carrasco, Jose Antonio | 14947
Ceniceros, Nilda | 11292
Chang-Thompson, Chii Jean | 15838
Chattey, Fred N | 04713
Chojnowski, Mary E | 05148
Chow, Charles | 06533
Coady, Katherine J | 05816
Coleman, John E | 02314
Conde, Marlowe Chapin | 05748
Conner, Jason Eugene | 16352
Cordoni, Richard Elio | 04518
Daniel F Young, Inc | 07764
Derenzo, Joseph | 02591
DeRoulhac, Paul G | 14784
Diran, Kevin M | 08082
Dunbar Customs Services | 04574
Elco Air Freight Corp | 07452
Falk, Dennis Sheldon | 03015
Fazio, Frank | 02169
Felton, Gerald O | 04483
Fiala, Jean G | 05659
Gallegos, Mark Andre | 13174
Goldsborough, William West | 05122
Gonzales, Robert Michael | 12428
Goodwin, George E | 09653
Gouguet, Louis Jean | 04710
Graham, Ronald G | 14445
Hagan, John Patrick | 13461
Hansen, Robert C | 04721
Hatcher-Brand, Dorothy N | 06929
Hettrich, John Albert | 05258
Hom, Wendie T | 11542
Hompe, Byron J | 16653
Hughes, Robert W | 03048
Hughes, Stephen P | 09372
Hulka, Margarete H | 10994
Indreboe, Martin James | 07249
Intermodal Freight Forwarding, Inc | 04214
Ipsen, Laura Kay | 13647
Jacobson, Dennis R | 04914
Jencek, Lucie | 13648
Jensen, John H | 04907
Jensen, William Anthony | 05235
Jones, John Everett | 09575
Kaiser, John Melvin | 04654
Kapur, Kanwar K | 07942
Kapur, Manmohan | 07653
Karres, Edward R | 07638
Kennedy, Kathryn A | 06586
Kertell, Arthur C | 02428
Kilgore, James Barke | 12141
Kinane, Michael Joseph | 07851
Kirby, David E | 11004
Kitchel, Candace Ann | 11109
Law, Linda D | 06599
Levey, Kristine A | 12878
Lindsay, John R | 04435
Loechel-Alexander, Lloyd S | 09654
Louie, Andrew P | 12274
Madsen, Carl J | 02128
Magliano, John Charles | 04074
Matthews, John Henley | 02906
McLaughlin, Jerome M | 12849
McMullen, Michael Patrick | 08002
Miller, Peter J | 09960
Milner, James L | 09452
Movers Port Services, Inc | 08009
Movsky, David Stewart | 05036
Mulvany, Thomas | 06440
O'Brien, Jeffrey | 05035
O'Hanneson Worldwide | 13045
Oliveira, Monique U | 12851
Pack, Patricia D | 05112
Paik, Paul G | 04750
Perkins, Coy G | 07766
Petit, Jennifer A | 10294
Pfeifer, Mary Lee | 05180
Pinkerton, Timothy Charles | 07446
Ponte, Diane A | 06927
Raetz, Nancy Alma | 12499
Rhee, Gene Sang | 14577
Robie, James S | 14070
Roque, Disosdado C | 06140
Russell, William | 06031
Sable, Benjamin J | 03274
SEAIR Express of San Francisco, Inc | 10079
Seaport Shipping Company | 05435
Smith, Scott Joseph Burton | 14082
Stoddard, Barbara | 10045
Stout, Terry L | 04968
Strubing, Michael E | 06836
Stucky, Max L | 17480
Suehiro, Pat Chiyoko | 02592
Sutton, Robert F | 07087
Valdez, Lisa Y | 13555
Vidonne, Michael | 05090
Welch, Laura D | 12865
White, John Anthony | 05468
Wiesen, W. Duane | 04335
Wiley, Thomas Merritt | 11254
Wilkerson, Arthur E | 04749
Williams, Gail Kathryn | 15597
San Juan:
Air-Mar of Puerto Rico, Inc | 16704
Air-Mar Shipping, Inc | 04362
Blanch, Irma | 03574
Jorge Blanch, Inc | 04235
Rosa-Agosto, Hector L | 07670
Rosa-Sanchez, Salvador | 02403
Traffic Systems Corporation | 11317
Savannah:
Anderson, Candice L | 11692
Ansley, Lawrence N | 07005
Bruner, Kellie Y | 15474
Carroll, Eloise | 03226
Davis, Philip R | 14608
Ennis, Jr., Robert E | 13108
Flaxman, June T | 04222
Folgarait, Rene K | 10735
Griffith, Jackie | 09908
Harrison-Hansen, Barbara | 10392
Heidt, Joan E | 05186
Heidt, Jr., Frank Edward | 04160
James, Suzie | 14291
Jennings, William Allen | 04314
Laprad, Kim Marie | 15130
Mench, Christopher | 13232
Mikell, Wanda Lee | 11919
O'Neal, Brenda G | 11734
Rios, Anabel M | 10022
Saxton-Freeman, Sandra | 12566
Shelton, Paula Y | 14539
Stanfield, Robert | 14714
VonOldenburg, Frank R | 14098
Woodard, Paula E | 12648
Seattle:
AL Tokin Company, Inc | 04832
Bauer, Rita Kaye | 09074
Bauer, Susan P | 11333
Berg, Lewis J | 02678
Bostrum Warren, Inc | 05414
Brooks, Harland G | 02706
Carley, Lawrence E | 03401
CE Tolonen Company, Inc | 04517
Close, Ralph M | 00195
Cloward, Kelly W | 14907
Eachon, Jack | 02760
Evans, Loretta J | 07713
Frank P Dow Company, Inc | 00097
Gaffney, Mark | 10683
Gash, Robert W | 02849
Graves, Clarence A | 01586
Hansford, Joseph W | 03175
Hatchel, John | 06551
Hickman, Mark R | 11395
Ingham, Arthur D | 04636
Johnson, Ronald J | 09902
JT Steeb & Company, Inc | 00118
Kamigumi USA | 11443
Kittelson, Heather | 13974
Mann, William E | 01811
McClary Swift & Company, Inc | 03603
Murray, Carol A | 12863
Novo International Corporation | 04918
Pennington, Delores I | 07714
REA Express, Inc | 02144
Seaport Shipping Company | 04447
Shipman, Patricia J | 06773
Staff, Christopher George | 12846
Teibel, Willard W | 02795
Tuben, Jack R | 02780
Wessler, Robert O | 00189
Wickens, AH | 00183
Williams, Tracey L | 09018
WITS, Inc | 04734
WTC International, Inc | 04502
Yun, Minami | 15589
St. Albans:
Baker, Edward Robert | 04215
St. Louis:
Hanebrink, Richard | 03203
Meadows, William H | 09596
Shah, Mukesh | 12188
Swartz, Serena | 07162
Tampa:
Above & Beyond CHB | 14001
Avery & Taylor Import-Export Services, Inc | 05256
Cumbee, Alan B | 10142
Customs Brokers and Forwarders of Southwest Florida | 11892
E Allen Brown International, Inc | 04601
Esquerra, Deborah Todd | 14053
Failde, Delia | 02076
General Brokerage Services, Inc | 09262
James, John William | 05679
Johnson, Debra J | 10841
Linsley, Parke K | 04960
Marek, Lisa A | 11801
McGarry, William J | 04440
Pullara, Frank B | 02696
Robbins, Beverly | 12518
Robbins, John W | 10870
Roger Baum International, Inc | 16703
Stickles, Donald R | 14901
Sullivan, John Warren | 04730
Sullivan & Son, Inc | 04848
Sullivan, III, H.K. Edward | 05827
Sullivan, Jr., Henry E | 02502
Svensson, Theodore W | 05486
Turner, Thomas G | 04808
Vaine, Jr., Joseph T | 13614
Wilk, James H | 04472
Wilk Forwarding Company | 10316
William G Young & Company, Inc | 06421
Washington, DC:
Koehncke, Theodore Ernest | 15514
Wilmington:
Arthur J Fritz Company | 07961
Beatrice, Beth A | 10615
Clemmons, Connie L | 09834

Dated: October 5, 2001.
Bonni G. Tischler,
Assistant Commissioner, Office of Field Operations.

[FR Doc. 01-25373 Filed 10-9-01; 8:45 am]

BILLING CODE 4820-02-P